DEPARTMENT OF COMMERCE

International Trade Administration

[A-570-894]

Certain Tissue Paper Products From the People's Republic of China; Notice of Rescission of the 2010-2011 Antidumping Duty Administrative Review

AGENCY: Department of Commerce, International Trade Administration, Import Administration.

SUMMARY: The Department of Commerce (the Department) is rescinding the administrative review of the antidumping duty order on certain tissue paper products from the People's Republic of China (PRC) for the period of review (POR) of March 1, 2010, to February 28, 2011, with respect to Max Fortune Industrial Limited (Max Fortune Industrial), Max Fortune (FZ) Paper Products Co., Ltd. (formerly known as Max Fortune (FETDE) Paper Products Co., Ltd.) (Max Fortune Fuzhou), Max Fortune (Vietnam) Paper Products Company Limited (Max Fortune Vietnam), and Fujian Tian Jun Trading Co., Ltd. (also known as Fuzhou Tianjun Foreign Trade Co., Ltd.) (Tian Jun). This rescission is based on the timely withdrawal of the requests for review by the only interested party that requested the review of these companies.

DATES: Effective Date: July 14, 2011.

FOR FURTHER INFORMATION CONTACT: Brian Smith or Gemal Brangman, AD/CVD Operations, Office 2, Import Administration, International Trade Administration, U.S. Department of Commerce, 14th Street and Constitution Avenue, NW., Washington, DC 20230; telephone (202) 482-1766 or (202) 482-3773, respectively.

SUPPLEMENTARY INFORMATION:

Background

On March 1, 2011, the Department published a notice of opportunity to request an administrative review of the antidumping duty order on certain tissue paper products from the PRC. See Antidumping or Countervailing Duty Order, Finding, or Suspended Investigation; Opportunity to Request Administrative Review, 76 FR 11197 (March 1, 2011). In response, on March 31, 2011, the petitioner ¹ timely requested an administrative review of entries of the subject merchandise during the POR from Max Fortune Industrial, Max Fortune Fuzhou, Max Fortune Vietnam, and Tian Jun. Therefore, on April 19, 2011, the Department initiated a review of Max Fortune Industrial, Max Fortune Fuzhou, Max Fortune Vietnam, and Tian Jun. See Initiation of Antidumping and Countervailing Duty Administrative Reviews, 76 FR 23545 (April 27, 2011).

¹ The petitioner is Seaman Paper Company of Massachusetts, Inc.

In a letter dated June 10, 2011, the petitioner withdrew its request for review of Max Fortune Industrial, Max Fortune Fuzhou, Max Fortune Vietnam, and Tian Jun, and requested that the Department rescind the review with respect to these companies. No other parties requested a review.

Rescission of Administrative Review

Pursuant to 19 CFR 351.213(d)(1), the Secretary will rescind an administrative review, in whole or in part, if the party who requested the review withdraws the request within 90 days of the date of publication of the notice of initiation of the requested review. Accordingly, the petitioner timely withdrew its request for review of Max Fortune Industrial, Max Fortune Fuzhou, Max Fortune Vietnam, and Tian Jun. Because no other party requested a review, pursuant to 19 CFR 351.213(d)(1), the Department is rescinding the entire administrative review of the antidumping duty order on certain tissue paper products from the PRC for the period March 1, 2010, to February 28, 2011.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to administrative protective orders (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

This notice is published in accordance with sections 751(a) and 777(i) of the Act, and 19 CFR 351.213(d)(4).

Dated: July 6, 2011.
Christian Marsh,
Deputy Assistant Secretary for Antidumping and Countervailing Duty Operations .

[FR Doc. 2011-17724 Filed 7-13-11; 8:45 am]

BILLING CODE 3510-DS-P